DEPARTMENT OF COMMERCE

National Oceanic and Atmospheric Administration

50 CFR Part 648

[Docket No. 060823223-6223-01; I.D. 072706B]

RIN 0648-AT63

Magnuson-Stevens Fishery Conservation and Management Act Provisions; Fisheries of the Northeastern United States; Tilefish Fishery; Proposed Total Allowable Landings

AGENCY: National Marine Fisheries Service (NMFS), National Oceanic and Atmospheric Administration (NOAA), Commerce.

ACTION: Proposed rule; request for comments.

SUMMARY: NMFS proposes a change to the annual total allowable landings (TAL) for the tilefish fishery. The Mid-Atlantic Fishery Management Council (Council) met in May 2006 and recommended an increase in the TAL from 905 mt to 987 mt. This recommendation is, in part, a result of positive findings from the 2005 tilefish stock assessment that concluded that the tilefish stock is not overfished and overfishing is not occurring. This action complies with the Fishery Management Plan for the Tilefish Fishery (FMP).

DATES: Comments must be received no later than 5 p.m., eastern standard time, on September 21, 2006.

ADDRESSES: Copies of supporting documents, including the Regulatory Impact Review (RIR) and Initial Regulatory Flexibility Analysis (IRFA) are available from Daniel Furlong, Executive Director, Mid-Atlantic Fishery Management Council, Room 2115, Federal Building, 300 South New Street, Dover, DE 19904-6790. A copy of the RIR/IRFA is accessible via the Internet at http://www.nero.noaa.gov/nero/regs/com.html.

Written comments on the proposed specifications may be submitted by any of the following methods:

• Mail: Patricia A. Kurkul, Regional Administrator, Northeast Region, NMFS, One Blackburn Drive, Gloucester, MA 01930-2298. Mark on the outside of the envelope: “Comments on Tilefish Proposed Specifications.”

• Fax: (978) 281-9135.

• E-mail: 0648AT63@noaa.gov. Include in the subject line of the e-mail the following document identifier: “Comments on Tilefish Proposed Specifications.”

• Federal e-Rulemaking Portal: http://www.regulations.gov.

FOR FURTHER INFORMATION CONTACT: Brian R. Hooker, Fishery Policy Analyst, 978-281-9220.

SUPPLEMENTARY INFORMATION: Regulations implementing the FMP appear at 50 CFR part 648, subparts A and N. The FMP (section 1.2.1.2) states that, after a “benchmark” stock assessment, conducted at the Northeast Fisheries Science Center (NEFSC) sponsored stock assessment workshop (SAW), and subsequent review by the stock assessment review committee (SARC), from which the biological reference points for tilefish could change, a change in the TAL may be warranted. The 41st SAW met in June 2005, assessed the tilefish stock, and concluded that the stock is not overfished and overfishing is not occurring. Fishing mortality in 2004 was estimated to be 87 percent of Fmsy, and total biomass in 2005 was estimated to be 72 percent of Bmsy. Stock biomass in 2005 was above that projected for 2005 in the 1998 assessment (59 percent of Bmsy). However, the SAW also concluded that high variability exists in the terminal year ratio estimates and they were considered too uncertain to form the basis for evaluating likely biomass recovery schedules relative to the biomass level that would produce maximum sustainable yield (Bmsy) under various TAL strategies.

As a result of the findings from the 41st SAW, the Council convened the Tilefish Monitoring Committee in April 2006 to consider the results of the stock assessment and make recommendations to the Council's Tilefish Committee. At the Council's May 3, 2006, meeting the Tilefish Monitoring Committee recommended to the Council's Tilefish Committee that a slight increase in the TAL was justified. Based on this recommendation, the Council recommended to NMFS that the annual TAL be increased from 905 mt to 987 mt live (whole) weight, beginning with the 2007 fishing year, which starts November 1, 2006.

The FMP established a constant harvest strategy, with a 50-percent probability of achieving the Bmsy target, over a 10-year rebuilding period. Thus, the proposed TAL, if implemented, would remain in place through the remainder of the rebuilding period (ending October 31, 2011) unless otherwise superseded by an amendment to the FMP, or unless the results of the next tilefish stock assessment (currently scheduled for fall 2008 or spring 2009) warrant other action. The proposed 987 mt (2.175 million lb) TAL represents a 9-percent increase above the current 905 mt (1.995 million lb) TAL. In evaluating the proposed TAL, the Tilefish Monitoring Committee considered that the fishery has been operating at, or near, this level since the implementation of the FMP. This was primarily a result of an accounting error by which the quota was erroneously monitored by landed (gutted) weight instead of live (whole) weight as specified in the FMP. This error was corrected in May 2005, at which time the conversion factor of 1.09 was applied to the landed weight to determine the amount of quota harvested.

The percentage distribution of the TAL to the four tilefish permit categories would remain unchanged under this rule. The FMP dictates that the TAL be divided between the three limited access tilefish permit categories after the TAL is reduced by 5-percent to account for incidental tilefish landings (open-access incidental permit category) as follows: Sixty-six percent to Full-time Tier 1; 15 percent to Full-time Tier 2; and 19 percent to Part-time vessels. The allocation of the proposed TAL increase to the tilefish permit categories are presented in Table 1. These quotas may be adjusted by the Regional Administrator due to quota overages that occur in the previous fishing year.

Table 1. Proposed Tilefish Total Allowable Landings by Permit Catgory
Permit Category | Current TAL: 905 mt (1.995 million lb): Lb | Current TAL: 905 mt (1.995 million lb): Kg¹ | Proposed TAL: 987 mt (2.175 million lb): Lb | Proposed TAL: 987 mt (2.175 million lb): Kg¹
Full-time Tier 1 (A) | 1,250,980 | 567,435 | 1,364,329 | 618,849
Full-time Tier 2 (B) | 284,313 | 128,962 | 310,075 | 140,648
Part-time (C) | 360,130 | 163,352 | 392,761 | 178,153
Incidental Catch | 99,759 | 45,250 | 108,798 | 49,350
¹ Kg are converted from lb, and may not necessarily add exactly due to rounding.

Classification

This action is authorized by 50 CFR part 648 and has been determined to be not significant for purposes of Executive Order 12866.

Pursuant to 5 U.S.C. 603, an IRFA has been prepared that describes the economic impacts that this proposed rule, if adopted, would have on small entities. A description of the reasons why this action is being considered, as well as the objectives of and legal basis for this proposed rule is found in the preamble of this proposed rule. There are no Federal rules that duplicate, overlap, or conflict with this proposed rule. This action proposes to increase the tilefish TAL from 905 mt to 987 mt for the remainder of the FMP rebuilding period, which ends October 31, 2011.

Description and Estimate of the Number of Small Entities to Which this Proposed Rule Would Apply

The Small Business Administration (SBA) defines a small commercial fishing entity as a firm with gross receipts not exceeding $4.0 million. No firms participating in the tilefish fishery reported gross receipts exceeding $4.0 million and are thus all considered small entities. Total ex-vessel value for the entire tilefish fishery ranged from $2.5 to $4.9 million over the 1996 to 2005 period. A total of 31 vessels are eligible to participate in the directed tilefish limited access fishery. Approximately 2,000 vessels are issued the open access tilefish Incidental Catch permit on an annual basis. In 2005, all permitted vessels in the Full-time Tier 1 permit category landed tilefish, while only 40 percent (2 vessels) of the permitted vessels in the Full-time Tier 2 category and 35 percent (8 vessels) of the permitted vessels in the part-time category landed tilefish that year. In addition, approximately 142 vessels landed tilefish under the Incidental Catch permit category in 2005. Thus, the vast majority of the tilefish landings in 2005 (approximately 90 percent) came from vessels permitted to participate in the limited access fishery.

Economic Impacts of this Proposed Action

The proposed 9-percent quota increase could have a small benefit to the fishing industry due to the increased TAL and thus, the additional opportunity to harvest tilefish. In general, there is not a direct relationship between the amount of fish landed and the price, but if one did assume a direct relationship, then the 2005 average price per pound of $2.48 would be worth an additional $448,332 per year for the 180,779 lb (82 mt) increase in tilefish quota proposed under this action. Using the 2005 price per pound, this could potentially amount to an additional $2 million over the 5 years remaining in the rebuilding period. However, because of the accounting error that resulted in the quota being monitored as landed (gutted) weight rather than live (whole) weight, as the FMP specified between November 1, 2001, and May 2005, the expected revenue increase would only be applicable for the period after the accounting error was corrected. The correction of the accounting error equates to a 9-percent reduction in available tilefish quota.

Economic Impacts of Alternatives to the Proposed Action

The Council analyzed two tilefish quota alternatives in addition to the preferred alternative. The alternatives are as follows: The preferred alternative of a 9-percent increase in TAL; a second alternative representing a 5-percent increase in TAL; and a third alternative representing the no-action alternative (status quo). The second alterative could have a small benefit to the fishing industry, as potentially as much as 99,208 lb (45 mt) more landings of tilefish could occur due to the increase in quota. As stated previously, there is not a direct relationship between the amount of fish landed and the price, but if one did assume a direct relationship, then the 2005 average price per pound of $2.48 would be worth an additional $248,000 per year for the additional 99,208 lb (45 mt) increase in the quota under this alternative. Using the 2005 price per pound, this would represent a potential $1.24-million increase in ex-vessel price over the 5 years remaining in the rebuilding period. This increase would be applicable for the period after the accounting error was corrected in May 2005.

The third alternative would maintain the status quo (since May 2005) quota for the remainder of the stock rebuilding period. Implementation of the third alternative would be expected to maintain status quo conditions for rebuilding the resource and result in no changes to tilefish fishing revenues since May 2005. However, if viewed over the entire period since the implementation of the FMP (November 1, 2001), the tilefish industry average revenues could decline under the status quo alternative, since they would no longer be permitted to harvest at the level experienced prior to the correction of the accounting error.

Reporting and Recordkeeping Requirements

This proposed rule would not impose any new reporting, recordkeeping, or other compliance requirements. Therefore, the costs of compliance would remain unchanged.

Authority: 16 U.S.C. 1801 et seq.

Dated: August 31, 2006.
Samuel D. Rauch III,
Deputy Assistant Administrator For Regulatory Programs, National Marine Fisheries Service.

[FR Doc. E6-14712 Filed 9-5-06; 8:45 am]

BILLING CODE 3510-22-S